SURFACE TRANSPORTATION BOARD

[Docket No. FD 36284]

Seven County Infrastructure Coalition—Rail Construction & Operation—in Utah, Carbon, Duchesne, and Uintah Counties, Utah

AGENCY:

Lead: Surface Transportation Board (Board).

Cooperating: U.S. Department of the Interior, Bureau of Indian Affairs; State of Utah Public Lands Policy Coordinating Office; Department of the Army, U.S. Army Corps of Engineers; U.S. Department of the Interior, Bureau of Land Management (BLM); U.S. Department of Agriculture, Forest Service (U.S. Forest Service).

ACTION: Notice of Availability of the Final Scope of Study for the Environmental Impact Statement (EIS).

SUMMARY: The Seven County Infrastructure Coalition (Coalition) intends to seek Board approval to construct and operate an approximately 85-mile rail line between the Uinta Basin in northeastern Utah and an existing rail line near Kyune, Utah. On June 19, 2019, the Board's Office of Environmental Analysis (OEA) issued a Notice of Intent to Prepare an EIS and a Notice of Availability of the Draft Scope of Study (Draft Scope), pursuant to National Environmental Policy Act (NEPA). OEA requested comments on the Draft Scope from federal, state, and local agencies; tribes; other interested stakeholders; and the public during the public scoping period and held six public meetings in the project area. After review and consideration of all comments received, this notice sets forth the Final Scope of Study (Final Scope) of the EIS. The Final Scope reflects additions and changes to the Draft Scope as a result of comments received during the scoping comment period. The Final Scope also summarizes and addresses the principal environmental concerns raised by the comments on the Draft Scope and explains if and how these issues will be addressed in the EIS.

FOR FURTHER INFORMATION CONTACT: Joshua Wayland, Office of Environmental Analysis, Surface Transportation Board, 395 E Street SW, Washington, DC 20423, or call the OEA's toll-free number for the project at 1-855-826-7596. Assistance for the hearing impaired is available through the Federal Information Relay Service at 1-800-877-8339. The website for the Board is https://www.stb.gov. For further information about the Board's environmental review process and the EIS, you may also visit the Board-sponsored project website at www.uintabasinrailwayeis.com.

SUPPLEMENTARY INFORMATION:

Background

The Coalition proposes to construct and operate an approximately 85-mile rail line between two terminus points in the Uinta Basin near Myton, Utah, and Leland Bench, Utah, and the interstate rail network. The Coalition anticipates that shippers would use the proposed rail line to transport crude oil, and potentially, other mineral and agricultural products, out of the Uinta Basin to markets across the United States. The proposed rail line could also be used to move products and commodities, such as fracturing sand, proppant, steel, and machinery, to markets in the Uinta Basin. Depending on future market conditions, the Coalition estimates that between 3.68 and 9.98 trains could move along the proposed rail line per day, on average, including loaded and unloaded trains.

The Coalition is proposing to construct a route that would extend generally southwest from terminus points in the Uinta Basin to a connection with an existing rail line owned by Union Pacific Railroad Company (UP) near Kyune, Utah (the Whitmore Park Alternative). That route would generally parallel U.S. Route 191 through Indian Canyon and would be located within Utah, Carbon, Duchesne, and Uintah Counties in Utah. In addition to the Whitmore Park Alternative, the EIS will also consider two additional alternatives that OEA believes would be reasonable and feasible to construct and operate and that would meet the purpose and need of the proposed project. Those alternatives are the Indian Canyon Alternative and the Wells Draw Alternative, both of which would have the same terminus points as the Whitmore Park Alternative but would follow different alignments. A fourth potential alternative—the Craig Route—was considered early in the NEPA process but was eliminated after new information collected during the scoping process indicated that the Craig Route would not meet the project's purpose and need and would result in disproportionately significant environmental impacts. The EIS will compare the environmental impacts of the three reasonable and feasible alternatives to the No-Action Alternative, which would occur if the Board were to deny the Coalition's request for construction and operation authority. Additional information regarding the proposed rail line, including detailed descriptions of the Whitmore Park, Indian Canyon, and Wells Draw routes, are set forth in the Final Scope below.

Possible Resource Management Plan Amendments

In compliance with NEPA and the Federal Land Policy and Management Act of 1976, as amended, BLM is participating as a cooperating agency on this EIS with the Board because construction of the proposed rail line would require an issuance of a right-of-way permit across BLM-managed lands. The three build alternatives may cross BLM-administered lands for which a rail right-of-way would not currently be in conformance with the applicable Resource Management Plans (RMPs). Therefore, BLM may need to consider amending one or more RMPs to permit the rail line right-of-way. If so, BLM intends to use the EIS to support decision-making regarding the issuance of a right-of-way and to consider amending the current Price RMP (2008), Vernal RMP (2008), and Salt Lake Pony Express RMP (1990), depending on which, if any, route is ultimately approved by the Board. Plan amendments change one or more of the terms, conditions, or decisions of an approved land use plan. These decisions may include those relating to desired outcomes; measures to achieve desired outcomes, including resource restrictions; or land tenure decisions. The BLM Authorized officer may consider plan amendments for any proposal or action that does not conform to the current plan. As part of BLM's planning process a 30-day protest period is required following the publication of the Final EIS for any amendment decisions to BLM RMPs. Additional information regarding the plan amendment process can be found in the BLM Land Use Planning Handbook (https://www.blm.gov/policy/handbooks).

Possible Forest Land Management Plan Amendment

In compliance with NEPA and the U.S. Forest Service's 2012 Planning Rule, Ashley National Forest is also participating as a cooperating agency on this EIS with the Board. Because the Indian Canyon Alternative and the Whitmore Park Alternative would cross National Forest System (NFS) lands, Forest Service approval for permitting the rail line right-of-way may be required. The Forest Service decision on whether to permit the rail right-of-way may also include determining whether to amend the Ashley Forest Land and Resource Management Plan (Ashley Forest Plan). The Forest Service will use the EIS to inform its decision on the necessary approvals and, if needed, the Ashley Forest Plan amendment. In the event that the Forest Service decides to amend the Ashley Forest Plan, the Forest Service has given notice that the scope is expected to be limited to the proposed rail line only, and the scale of the amendment is the project area that occurs on NFS lands. The Forest Service has also given notice that the substantive requirements of the 2012 Planning Rule (36 CFR 219) are likely to be directly related and, therefore, applicable to the Ashley Forest Plan amendments are 36 CFR 219.8(b)(1) and (2) (specifically scenic character), regarding social and economic sustainability, and 36 CFR 219.10(a)(1) (specifically scenery) and (3) (specifically transportation), regarding integrated resource management for multiple use. The Forest Service responsible official is the Ashley Forest Supervisor.

Environmental Review Process

Purpose and Need

The proposed project involves a request from the Coalition for Board authority to construct and operate a common carrier rail line as part of the interstate rail network. The proposed rail line is not a federal government-proposed or sponsored project. Accordingly, the project's purpose and need is informed by both the governing statute of the lead federal agency and the goals of the applicant. Under the Board's enabling statute—the Interstate Commerce Act as amended by the ICC Termination Act—construction and operation of new rail lines require prior authorization by the Board under 49 U.S.C 10901(c), which is a permissive authorization standard. It directs the Board to grant construction proposals “unless” the Board finds the proposal “inconsistent with the public convenience and necessity.” Thus, there is a statutory presumption that rail construction projects are in the public interest unless shown otherwise.

The Coalition has stated that the purpose of the proposed rail line is to provide common-carrier rail service connecting the Uinta Basin in northeastern Utah to the interstate common-carrier rail network using a route that would allow the Coalition to attract shippers with a cost-effective rail alternative to trucking. Currently, all freight moving into and out of the basin is transported by trucks on the area's limited road network, which includes one north-south two-lane highway (U.S. Highway 191) and one east-west two-lane highway (U.S. Highway 40). According to the Coalition, the proposed rail line would provide customers in the Uinta Basin with multi-modal options for the movement of freight to and from the Uinta Basin; promote a safe and efficient system of freight transportation in and out of the Uinta Basin; further the development of a sound rail transportation system with effective competition among differing modes of transportation; and foster sound economic conditions in transportation and effective competition and coordination between differing modes of transportation.

Proposed Action and Alternatives

The proposed rail line would extend from two termini in the Uinta Basin near Myton and Leland Bench to a connection to an existing UP rail line near Kyune. It would consist of a single track constructed of continuous-welded rail and would require a right-of-way approximately 100-feet wide along much of its length, although the right-of-way could be substantially wider in some locations. Construction of the proposed rail line would require significant regrading and cut-and-fill to traverse the rugged topography of the project area; creation of new access roads for construction and right-of-way maintenance; construction of several railroad tunnels; and placement of new crossings at roads, streams, trails, and utility corridors. Maps of the Coalition's proposed route and reasonable and feasible alternative routes are available on the Board-sponsored project website at www.uintabasinrailwayeis.com.

The volume of rail traffic on the proposed rail line during operations would depend on future demand for products from the Uinta Basin, especially crude oil. Depending on future oil market conditions, the Coalition estimates that between 3.68 and 9.92 crude oil trains and between zero and 0.6 fracking trains would move along the proposed rail line per day, on average, including loaded and unloaded trains, for a total of between 3.68 and 9.98 trains per day, on average. The Coalition does not anticipate that volumes of other products moving into or out the Uinta Basin would be sufficient to require additional dedicated manifest trains. The Coalition expects that crude oil unit trains would have, on average, 110 rails cars per train, regardless of whether the train was loaded or empty. The destinations of outbound oil trains would depend on future market conditions, including future global demand for crude oil, but OEA anticipates that the majority of rail traffic on the proposed rail line would terminate at refineries on the Gulf Coast.

Alternatives To Be carried forward in the EIS:

The EIS will analyze and compare the potential impacts of construction and operation of the proposed rail line for all reasonable alternative routes and the No-Action alternative (denial of construction and operation authority). Following consultation with the cooperating agencies; other appropriate federal, state, and local agencies; tribes; other affected stakeholders; the public; and the Coalition, as the project applicant, OEA has determined that the reasonable alternatives that will be analyzed in detail in the EIS are:

• Indian Canyon Alternative. This 80-mile route would connect an existing UP rail line owned by UP near Kyune, Utah, to terminus points in the Uinta Basin near Myton, Utah and Leland Bench, Utah. Starting at Leland Bench, approximately 9.5 miles south of Fort Duchesne, Utah, this route would proceed westward, past the South Myton Bench area, until intersecting Indian Canyon approximately 2 miles south of Duchesne, Utah. After entering Indian Canyon, the route would turn southwest and follow Indian Creek upstream toward its headwaters below Indian Creek Pass, paralleling U.S. Highway 191 for approximately 21 miles. The Indian Canyon Alternative would use a summit tunnel to pass through the West Tavaputs Plateau and, after emerging from the tunnel, would descend the Roan Cliffs to reach Emma Park, an open grassy area at the base of the Roan Cliffs. The route would then run westward through Emma Park and connect to the UP Provo Subdivision near the railroad timetable station at Kyune.

• Whitmore Park Alternative. Based on information obtained through the scoping process (including data collection, technical evaluations, and public outreach) the Coalition developed the Whitmore Park Alternative as another alternative for further consideration in the EIS. The Whitmore Park Alternative would overlap for much of its length with the Indian Canyon Alternative but would deviate in certain areas to resolve issues with the Indian Creek Alternative identified through scoping. Specifically, the Whitmore Park Alternative would avoid impacts to residences in the Mini-Ranches area in Duchesne, Utah and to some other properties along the proposed rail line; would permit an improved crossing over U.S. Route 191; would allow the proposed rail line to avoid a slide area, which could improve the stability of the railway and reduce maintenance issues; and could potentially reduce impacts to greater sage-grouse leks in the Emma Park area of the Carbon Sage-Grouse Management Area, relative to the Indian Canyon Alternative. At this time, the Coalition has identified the Whitmore Park Alternative as the Coalition's preferred alternative.

• Wells Draw Alternative. This alternative would be approximately 105 miles long and would connect the existing UP rail line near Kyune, Utah to two terminus points in the Uinta Basin near Myton Bench, Utah and Leland Bench, Utah. The lines from those two terminus points would meet at a junction approximately 6.5 miles south of South Myton Bench. From that junction, the Wells Draw Alternative would run southward, generally following Wells Draw toward its headwaters. After reaching the headwaters of Wells Draw, the route would turn westward and enter Argyle Canyon. It would remain on the north wall of Argyle Canyon for approximately 25 miles, eventually reaching the floor of the canyon near the headwaters of Argyle Creek. The route would then enter a summit tunnel through the West Tavaputs Plateau and, after emerging from the tunnel, would descend the Roan Cliffs to reach Emma Park. The route would run westward through Emma Park and connect to the UP Provo Subdivision near Kyune.

Alternatives considered but eliminated from detailed study:

The three reasonable and feasible alternative alternatives described above were identified through several separate evaluations of potential routes for a rail line between the Uinta Basin and the interstate rail network. Because the Uinta Basin is surrounded by steep topography, the range of potential reasonable and feasible alternatives is greatly limited by engineering constraints, as well as by the costs of constructing a rail line through rugged and mountainous terrain. In a 2014 feasibility study, the Utah Department of Transportation (UDOT) initially identified 26 conceptual routes for a rail line to serve the Uinta Basin but eliminated 18 of those routes because they would require ruling grades that would be inconsistent with the safe and efficient operation of a rail line. In 2019, the Coalition reevaluated the 26 routes identified by UDOT and three additional routes that were not considered in the UDOT study. Among the 29 routes that the Coalition considered, 18 were eliminated because they would exceed the engineering standards that the Coalition set for safe and efficient operation and three were eliminated because they would result in disproportionately significant environmental impacts. Of the remaining eight routes, five were eliminated after further analysis because they would not be technically or economically feasible to construct and operate.

Prior to the beginning of the scoping process, OEA reviewed the available information, including information submitted by the Coalition, and identified three routes as potential reasonable and feasible alternatives and requested public comments on those potential alternatives. In addition to the Indian Canyon Alternative and Wells Draw Alternative, OEA also initially considered the Craig Route, which would extend eastward approximately 185 miles from terminus points near Myton, Utah and Leland Bench, Utah to an existing rail line near Axial, Colorado. Based on comments received during scoping and OEA's independent review, OEA has now determined that the Craig Route is not a reasonable and feasible alternative because it would not meet the project's purpose and need and would result in disproportionate environmental impacts relative to the other routes that OEA has considered.

OEA received a number of comments during scoping, raising concerns regarding potential environmental impacts of the Craig Route, as well as the reasonableness and feasibility of that proposed alternative. On September 4, 2019, the Coalition submitted a comment letter to OEA explaining that the Coalition no longer believes the Craig Route would meet the project's purpose and need. First, the Coalition stated that two major segments of the Craig Route are currently private rail lines and the Coalition would need to obtain the right to operate over those private lines in order to construct and operate the Craig Route.¹ Second, the Coalition noted that if the Craig Route were constructed, shippers in the Uinta Basin would gain access only to a rail line owned and operated by UP, whereas both the Indian Canyon Alternative and the Wells Draw Alternative would give shippers access to both UP and BNSF Railway Company lines. According to the Coalition, the lack of access to two existing carriers on the Craig Route would result in higher rates for shippers and could affect the Coalition's ability to attract shippers and obtain financing. Third, the Coalition stated that the economic feasibility of the Craig Route could be affected by the high maintenance and operating costs on the UP Craig Subdivision, to which the Craig Route would connect. According to the Coalition, there is little current rail traffic on that UP rail line. Because trains from the proposed rail line would be the primary source of rail traffic on the UP Craig Subdivision, the Coalition could be forced to either purchase that UP line or incur substantial costs to ensure that it is adequately maintained. Finally, the Coalition noted the comments from federal, state, and local agencies discussed below regarding the disproportionate potential impact of the Craig Route to wildlife and other resources relative to the other proposed build alternatives.

¹ Private rail lines are not part of the interstate rail network, and therefore, are not subject to the Board's jurisdiction, including the railroads' common carrier obligation to provide rail service on reasonable request. See 49 U.S.C. 11101(a).

Specifically, the Colorado State Office of the BLM (Colorado BLM) identified several potentially significant environmental impacts to specific resources that lead to the conclusion to dismiss the Craig Route from detailed analysis. Colorado BLM explained that the Craig Route would be inconsistent with BLM management decisions and would require an amendment to BLM resource management plans in order to permit a right-of-way. Colorado BLM identified potential significant environmental impacts to important greater sage-grouse and sharp-tailed grouse habitat, including several greater sage-grouse leks; important winter habitat for big game species, including pronghorn, mule deer, and elk; and habitat for the black footed ferret in the Wolf Creek Management Area. Other issues raised by Colorado BLM regarding the Craig Route include potential visual impacts and impacts to several threatened and endangered plant species known to occur in the project area. Because of its concerns concerning impacts, the Colorado BLM asked that OEA eliminate the Craig Route from further analysis.

The National Parks Service (NPS) submitted comments identifying potential environmental impacts—including increased air pollution, noise, and altered daytime viewsheds and dark night sky views—of the Craig Route on Dinosaur National Monument (DNM) that would be caused by the Craig Route's close proximity (within five miles) to the DNM. By comparison, the Indian Canyon Alternative and the Wells Draw Alternative would avoid these impacts because both routes would be more than 30 miles away from the DMN.

Colorado Parks and Wildlife (CPW) submitted comments raising concerns about the Craig Route due to the project area's extremely high value for numerous wildlife species and the potential of the proposed route to adversely affect those species. CPW identified eight properties in which CPW maintains an interest that would be bisected by the Craig Route, potentially resulting in the fragmentation of wildlife habitat or affecting public use of the properties. CPW noted that the Craig Route would cross numerous tributary streams of the White River and the Yampa River, which serve as spawning areas for federally and state listed threatened and endangered fish species. In addition, CPW commented that the Craig Route would cross crucial winter range areas and migration routes for mule deer and elk and also raised concerns regarding potential impacts to greater sage-grouse, sharp-tailed grouse, raptors, and blackfooted ferrets. Finally, CPW identified several proposed projects in the vicinity of the Craig Route that could potentially result in significant cumulative impacts to biological resources when considered in conjunction with the proposed rail line if the Craig Route is carried forward, including the Transwest Express Transmission Line, Energy Gateway South Transmission Line, Tri-State's Colowyo coal mine expansion, federal oil and gas leasing projects, and proposals for sand and gravel mining.

The comments of the commissioners of Moffat County, Colorado (Moffat County) did not ask OEA to eliminate the Craig Route, but raised several issues unique to the Craig Route that would need to be addressed if that route were carried forward in the EIS. Among these issues are the lack of the Craig Route's connection to an existing common carrier rail line in Colorado, which would require the Coalition to acquire rights to operate over private rail line in order to implement the proposed project if the Craig Route were approved. Moffatt County also pointed to potential bottleneck issues related to adding new rail traffic to parts of the proposed route that could make the Craig Route infeasible. Moffat County further noted the existence of several wildlife conservation easements along the Craig Route corridor and cited potential rail crossings that would need to intersect public roads and landowner concerns.

Based on careful consideration of the comments, and the results of its own environmental analysis conducted to date, OEA has concluded, based on the totality of the circumstances, that the Craig Route would not be a reasonable and feasible alternative for the proposed Uinta Basin Railway and that the route will not be carried forward for detailed analysis as an alternative in the EIS. Because of the substantially longer length relative to the other proposed alternatives and its location, construction and operation of the approximately 185-mile Craig Route would have disproportionate impacts on wildlife, the DNM, and other environmental resources. Based on OEA's analysis of available data, the Craig Route would require a greater number of water body crossings than the other proposed alternatives, would affect a greater area of wetlands, would likely require greater volumes of water during construction, and would have a greater potential to impact cultural resources, such as undiscovered archeological sites. The Craig Route is also the only one of the three initially proposed alternatives that would cross the Green River, which contains designated critical habitat for federally listed endangered fish species that are endemic to the Colorado River basin.

In summary, out of a total of 30 conceptual routes that have been considered to date, OEA has concluded that only three—the Whitmore Park Alternative, the Indian Canyon Alternative, and the Wells Draw Alternative—would meet the project's purpose and need and would be reasonable and feasible to construct and operate. Those three routes, as well as the No-Action Alternative, will be carried forward in the EIS.

Public participation, agency consultation and government-to-government consultation:

As part of the environmental review process to date, OEA has conducted broad outreach to inform the public, federally recognized tribes, and agencies about the proposed action and to facilitate participation in the NEPA process. OEA consulted with, and will continue to consult with, federal, state, and local agencies; tribes; affected communities; and all interested parties to gather and disseminate information about the proposed action. As part of that process, OEA has initiated government-to-government consultation with federally recognized tribal governments to seek, discuss, and consider the views of the tribes regarding the proposed action and alternatives.

Defining the project area:

In most rail construction and operation proposals, the railroad applicant defines the potential market areas to and from where it intends to transport goods. OEA is then able to assess potential environmental impacts within a defined geographic area. In this case, the destinations and origins of the trains that would travel on the proposed rail line would depend on future market conditions, including future global demand for crude oil. As part of its analysis in the EIS, OEA will use available information to identify potential markets for crude oil produced in the Uinta Basin and potential routes that trains could take to reach those destinations, to the extent feasible. As appropriate under the Board's environmental regulations, OEA will analyze potential environmental impacts on existing rail lines that would experience an increase in rail traffic as a result of the construction and operation of the proposed rail line. OEA will define an appropriate project area in the EIS that will inform the public, enable all interested parties to participate in the environmental review process, and disclose the potential impacts of the Coalition's proposal to the Board so that it can take the requisite hard look at the environmental effects before making a fully informed decision.

Summary of scoping comments:

• Analysis of Safety. Commenters requested that the EIS analyze the potential for a decrease in traffic accidents and releases of hazardous materials due to fewer tanker trucks and other trucks on roadways, as a result of the addition of a rail transportation option. Commenters also expressed concern regarding the risk of train derailment, hazardous material release, and train collisions with vehicles at road crossings. Commenters questioned the feasibility of installing active warning devices at road crossings due of lack of electricity along proposed routes. Additionally, commenters expressed concern regarding rail/road grade crossing safety in winter conditions; expressed concern that the railway would limit accessibility for residents and emergency vehicles; and questioned plans and financial responsibility for responding to hazardous material releases. The Final Scope reflects that the EIS will consider these issues, as appropriate.

• Analysis of Transportation Systems. Commenters suggested that the proposed rail line could either decrease wear on highways by reducing long-haul trucking traffic or increase wear on highways by increasing local trucking traffic. Commenters expressed concern about the impact of railroad operations on local traffic, including wait times at crossings, and the impact of the railroad on planned road improvement and upgrade projects. Commenters also questioned the cost of trucking versus transportation by rail. The Draft Scope has been revised to clarify that the EIS will evaluate these issues, as appropriate.

• Analysis of Land Use.

○ BLM-Administered Lands: Commenters requested that the EIS evaluate Special Designation Areas, Lands with Wilderness Characteristics, wildland fires, range, and wild and scenic rivers. Commenters also requested that the EIS evaluate potential resource conflicts with travel management designations, rights-of-way, Special Recreation Management Areas, federal surface estate and mineral leases, and Areas of Critical Environmental Concern (ACECs). The Draft Scope has been revised to reflect that the EIS will consider these issues.

○ Forest Service Administered Lands: Commenters expressed concern with potential adverse impacts that the proposed rail line would have on Ashley National Forest and conformance with inventoried roadless areas. The Draft Scope has been revised to reflect that the EIS will evaluate these issues.

○ Agricultural Lands. Several commenters requested that the EIS evaluate potential impacts on farm and pasture operations, access to pastures for livestock, impacts on cattle (barriers to livestock movement and potential collisions), and impacts on irrigation systems. The Draft Scope has been revised to reflect that the EIS will evaluate these issues.

○ General Land Use: Commenters expressed concern about the potential adverse impacts on property values, and potential conflicts with other approved rights-of-way, and existing and future oil and gas operations and infrastructure. The Final Scope indicates that the EIS will evaluate the compatibility of the proposed rail line with existing land uses, as appropriate. The EIS will not consider the impact of the proposed rail line on private property values because such an analysis would be beyond the scope of the environmental review process under NEPA.

• Analysis of Parks and Recreation. Commenters expressed concern about the potential negative impacts on recreation in the area due to the construction and operation of the proposed rail line, including destruction of wilderness areas used for recreation and the impacts noise, air pollution, and degradation of the visual surroundings have on the desire to recreate in the area. The Final Scope reflects that the EIS will consider these issues, as appropriate.

• Analysis of Biological Resources.

○ Fish. Commenters expressed concern related to the effects stream crossing structures (e.g., culverts) on fish passage and the effects of hazardous materials (e.g., spills) on aquatic habitat. The Final Scope reflects that the EIS will evaluate these potential impacts.

○ Wildlife. Commenters expressed concern with habitat destruction and fragmentation, disruption of wildlife movement and migration, wildlife displacement, noise and vibration effects, light effects, removal of wildlife access to food and water (e.g., springs) sources, spills of hazardous materials, and wildlife mortality from train collisions. Commenters also expressed concern with potential impacts on riparian habitat and associated wildlife, as well as big game, greater-sage grouse, Columbian sharp-tailed grouse, raptors, and migratory birds. The Final Scope reflects that the EIS will consider these potential impacts, as appropriate.

○ Vegetation. Commenters expressed concern with reclamation and potential impacts on plants and vegetation communities from the establishment and spread of invasive, exotic, and noxious weeds during and after construction. The Final Scope reflects that the EIS will evaluate these potential impacts.

○ Threatened and Endangered Species and other Sensitive Species. The U.S. Fish and Wildlife Service, U.S. Forest Service, and BLM expressed concern with threatened and endangered species and other sensitive species under their management. The Center for Biological Diversity also expressed concern with known occurrences and observations of sensitive species as indicated by Utah Natural Heritage Program information. The Final Scope reflects that the EIS will consider potential impacts on these species, as appropriate.

• Analysis of Water Resources.

○ Surface Water. The U.S. Environmental Protection Agency recommended an analysis of the proposed rail line's impact on waters of the United States, riparian habitat, stream morphology and surface water and groundwater movement and flow, and construction stormwater. Commenters also expressed concern with hazardous material spills on surface waters and potential effects on Clean Water Act Section 303(d) listed impaired waterbodies, as well as potential stream relocations and stream impacts at rail line crossings. The Colorado Department of Public Health and Environment expressed concern with potential impacts on Yampa River and Colorado River systems. Some commenters expressed concern regarding the effects on irrigation systems, including the Uinta Basin Irrigation Company's main piped canal and open canal. The Final Scope reflects that the EIS will consider these potential impacts, as appropriate.

○ Groundwater. Commenters expressed concern regarding groundwater and springs from construction activities (e.g., blasting) that could affect the geologic layers that hold these waters, particularly to landowners with water rights for private wells and springs. Commenters also expressed concern with impacts of hazardous material spills on groundwater, alterations of groundwater movement and flow, and impacts on freshwater springs on private and public lands, including the effect of rail tunnels that may be below springs. The Final Scope reflects that the EIS will consider these potential impacts, as appropriate.

○ Wetlands and Floodplains. Commenters expressed concern with wetland impacts and compliance with statutes, permits, and executive orders pertaining to wetlands. Commenters also expressed concern with the proposed rail line's potential impact on floodplains; the potential for flash floods, including along the Indian Canyon route and drainages off the north slope of Nine Mile Canyon; the potential for rail car spills in the floodplain; and maintenance/drainage issues related to culvert and bridge blockage during storms that could cause washouts. The Final Scope reflects that the EIS will consider these potential impacts, as appropriate.

• Analysis of Geology and Soils and Paleontological Resources. Commenters expressed concern with soil and geologic instability during construction (including during blasting) and operations (vibrations), and resultant landslides and rockfalls that might occur and potentially derail trains; tunnel instability; soil erosion, subsidence, and compaction; and flammable and explosive subsurface hydrocarbon gases (e.g., methane) that may be encountered during construction and operations. A commenter requested that the geology and soils analysis include review of paleontological and mineral resources, noting that the Coalition's preferred route and each alternative traverse BLM Potential Fossil Yield Class (PFYC) 4 and 5 areas. The Final Scope reflects that the EIS will consider these potential impacts, as appropriate.

• Analysis of Air Quality. Commenters expressed concern that the existing poor air quality, especially during weather inversions in winter, and the associated health-related impacts (such as asthma), would be made worse by a rail line and increased oil and gas production, and that this needs to be analyzed in the EIS. Commenters stated that air emissions related to the proposed rail line, including emissions of greenhouse gases, should be estimated as part of the EIS analysis and that such estimates should include consideration of potential changes in truck traffic. Commenters also stated that the analysis should consider air quality information in the Ashley Forest Plan, include evaluation of applicability of the Clean Air Act's General Conformity Regulations and Transportation Conformity Regulations and regional air quality impacts, such as acid deposition and criteria pollutant concentrations in Class I (e.g., Mount Zirkel Wilderness Area) and sensitive Class II (e.g., Dinosaur National Monument and Flaming Gorge National Recreation Area) areas. Commenters requested that the air quality analysis include impacts on air quality from new and increased refining capacity at the destinations where refining would take place. The Final Scope makes clear that these issues will be addressed in the EIS, as appropriate.

• Analysis of Noise and Vibration. Commenters raised concerns about noise impacts during construction and operation of the proposed rail line, including potential effects on livestock and wildlife, as well as quality of life and private property values. Commenters also expressed concern about potential vibration impacts, including rattling windows, rock fall, and damage to springs and irrigation pipelines. One commenter requested that, along with considering sound volume and A-weighted decibels (dBA), the noise and vibration impact analysis in the EIS provide a multi-octave analysis of both tonal and low frequency noise components. The Final Scope explains that the EIS will consider these issues, as appropriate, except for the requested multi-octave analysis, which is not required for evaluation of potential noise impacts and would be inconsistent with the Board's established approach for assessing those impacts.

• Analysis of Energy Resources. Comments on energy resources were related to the potential for the rail line to increase oil and gas production in the basin. That issue is encompassed in the Final Scope and will be addressed in the EIS, as appropriate.

• Analysis of Socioeconomics. Many comments involved job creation and commenters expressed opinions about the extent of temporary versus long-term job creation, the potential for the rail line to displace trucking jobs, and the potential benefits of long-term job creation for communities. Commenters had conflicting opinions about the market sectors that would likely benefit from construction of the proposed rail line and whether rail construction and operation would result in adverse or beneficial social effects. Commenters stated that the proposed rail line would increase revenue generation on state lands for public education and result in increased tax revenue and royalty payments. Commenters also expressed concern about the impact that an influx of temporary workers would have on local communities and the potential for the workforce to exceed the capacity of hotels, housing, and other infrastructure; affect housing prices; and displace low-income tenants. Commenters specifically requested that the EIS include a cost-benefit analysis; an analysis of the economic benefits of more efficient transportation by rail; an analysis of the opportunity costs of the No-Action Alternative; and an analysis of impacts on ranchers. A cooperating agency requested that the EIS consider effects on nonmarket social values outside of defined communities, including impacts on opportunities for quiet recreation and sense of place. The Draft Scope has been revised to reflect that the EIS will analyze direct and indirect economic impacts, direct and indirect impacts on jobs, social impacts, impacts on communities, and impacts on nonmarket social values, as appropriate. The EIS will not include a cost-benefit analysis of the proposed rail line because such an analysis would be beyond the scope of the environmental review process under NEPA.

• Analysis of Cultural and Historic Resources. Commenters expressed concern regarding potential adverse impacts on historic sites and buildings, historic rock art, and petroglyphs. The Final Scope reflects that the EIS will consider these potential impacts, as appropriate.

• Analysis of Aesthetics and Visual Resources.

○ Scenic Landscapes. Commenters expressed concern regarding potential impacts on scenic landscapes, scenic byways, and lands with wilderness characteristics from construction and operation of the proposed rail line. Concerns were also expressed regarding light pollution. The Final Scope indicates that the EIS will evaluate these issues, as appropriate.

○ Visual Resource Management (VRM). The Nine Mile Canyon Coalition requested that the EIS use the BLM Visual Resource Inventory instead of BLM VRM for the baseline of the analysis. The Final Scope indicates that the EIS will reference applicable rating systems for assessing potential impacts on visual resources on federal lands.

• Analysis of Environmental Justice. One commenter recommended that OEA follow the methods outlined in the Environmental Justice Interagency Working Group's Promising Practices for Environmental Justice Methodologies in NEPA Reviews. A cooperating agency also provided agency-specific guidance on the methodology for identifying low-income, minority, and tribal populations. One commenter stated that the environmental justice analysis should consider impacts from noise, vibration, dust, and other air emissions, as well as impacts of the new rail line on traffic, emergency response times, and neighborhood connectivity. Some commenters requested that the scope of the environmental justice analysis include an assessment of downline environmental justice impacts along routes that would accommodate additional rail activity generated by the proposed rail line. The EIS will include an analysis of environmental justice impacts that is tiered to other resource analyses in the EIS and will consider whether analysis of downline impacts is warranted based on the projected number of train trips, where appropriate.

Final Scope of Study for the EIS

Proposed New Construction and Operation

Analysis in the EIS will address the proposed activities associated with the construction and operation of the proposed rail line and their potential environmental impacts, as appropriate.

Impact Categories

The EIS will analyze potential direct, indirect, and cumulative impacts ² for the Coalition's proposed construction and operation of each reasonable and feasible alternative on the human and natural environment, or in the case of the No-Action Alternative, the lack of these activities. Impact areas addressed will include the categories of safety, transportation systems, land use, parks and recreation, biological resources, water resources including wetlands and other waters of the United States, geology and soils, air quality, noise, energy resources, socioeconomics as they relate to physical changes in the environment, cultural and historic resources, aesthetics, and environmental justice. The EIS will include a discussion of each impact area assessed as it currently exists in the project area and will address the potential direct impacts, indirect impacts, and cumulative impacts associated with each reasonable and feasible alternative and the No-Action Alternative.

² NEPA requires the Board to consider direct, indirect, and cumulative impacts. Direct and indirect impacts are both caused by the action. 40 CFR 1508.8(a) and (b). A cumulative impact is the “incremental impact of the action when added to other past, present, and reasonably foreseeable future actions regardless of what agency (federal or non-federal) or person undertakes such other actions.” 40 CFR 1508.7.

1. Safety

If construction and operation of the proposed rail line would adversely or beneficially affect public safety in the project area, the EIS will:

a. Analyze the potential for a change in vehicle accident frequency and resulting hazardous material release frequency related to the operation of the proposed rail line.

b. Analyze the potential for increased probability of train accidents and hazardous material release.

c. Evaluate the potential for impacts on public safety due to operation-related wildfires and disruption and delays to the movement of emergency vehicles.

d. Propose mitigation measures to minimize or eliminate potential project impacts on safety, as appropriate.

2. Transportation Systems

Because construction and operation of the proposed rail line would affect transportation systems, the EIS will:

a. Evaluate the potential impacts, including vehicle traffic and delay at at-grade rail/road crossings, resulting from each alternative on the existing transportation network in the project area.

b. Propose mitigation measures to minimize or eliminate potential adverse project impacts on transportation systems, as appropriate.

3. Land Use

Because construction and operation of the proposed rail line would affect land use, the EIS will:

a. Assess potential impacts of the proposed rail line on public lands, including lands administered by BLM and the U.S. Forest Service. For example, the EIS will analyze potential impacts on Special Designation Areas; Lands with Wilderness Characteristics; wildland fires; range (grazing allotments); and, designated or eligible wild and scenic rivers. The EIS will evaluate potential resource conflicts with travel management designations, rights-of-way, Special Recreation Management Areas, federal surface estate and mineral leases, and ACECs.

b. Evaluate potential impacts of the proposed rail line on inventoried roadless areas within Ashley National Forest.

c. Analyze potential BLM and U.S. Forest Service land use plan amendments that may be required to permit the rail right-of-way on public lands.

d. Evaluate potential impacts of each alternative on existing land use patterns in the project area and identify those land uses that could be affected by construction and operation of the proposed rail line.

e. Analyze the direct and indirect impacts on farming and ranching practices and access, existing residences, and existing energy infrastructure (oil and gas). The EIS will analyze potential barriers to livestock movement, livestock collisions, and impacts on irrigation systems.

f. Analyze the potential direct and indirect impacts associated with each alternative on land uses identified in the project area. Potential impacts may include incompatibility with existing land use, conversion of land to railroad use, and, where readily available data exists, compatibility with conservation easements and other encumbrances on privately owned land.

g. Evaluate the potential for increased wildfire risk from construction and operation of the proposed rail line.

h. To the extent readily available data exists, the EIS will qualitatively describe Indian Trust Assets that may be affected by the proposed rail line, including surface and subsurface mineral rights, irrigable farmland, and local access, including access to allotted lands that may be isolated by the proposed rail line.

i. Propose mitigation measures to minimize or eliminate potential impacts on land use, as appropriate.

4. Parks and Recreation

If construction and operation of the proposed rail line would adversely or beneficially affect parks and recreational areas, the EIS will:

a. Evaluate existing conditions and the potential impacts of each alternative on parks, recreational trails, Special Recreation Management Areas, and other recreational opportunities provided in the project area. Analyze the potential direct and indirect impacts on recreation areas and recreational opportunities from construction and operation of the proposed rail line.

b. Evaluate the compatibility of each alternative with area management plans and local ordinances guiding recreational activities in the study area.

c. Propose mitigation measures to minimize or eliminate potential project impacts on recreational opportunities, as appropriate.

5. Biological Resources

If construction and operation of the proposed rail line would adversely or beneficially affect biological resources, the EIS will:

a. Evaluate the existing biological resources in the project area, including vegetative communities, wildlife, fish, and federal and state threatened or endangered species and other federal agency-managed sensitive species, and analyze the potential impacts on these resources resulting from the construction and operation of each alternative. For example, the EIS will include analyses on habitat removal and fragmentation (including riparian habitat); wildlife movement and migration disruptions, displacement, impedance of access to food and water sources; and mortality from collisions with trains. The EIS will also analyze potential impacts on federally and state-listed threatened and endangered species, other sensitive species managed by the Forest Service and BLM, and state sensitive species (i.e., those species identified by the Utah Natural Heritage Data).

b. Specifically evaluate potential impacts to greater sage-grouse, greater sage-grouse habitat (including Priority Habitat Management Areas), and greater sage-grouse leks in the Carbon Sage-Grouse Management Area, one of eleven Sage-Grouse Management Areas in Utah.

c. Evaluate wildfire risk due to train operations (e.g., sparks) and potential effects of wildfire on vegetation, habitat, and wildlife.

d. Evaluate the permanent and temporary impacts on vegetation communities from the proposed rail construction and operations and impacts from the potential introduction and spread of invasive and noxious weeds during and after construction.

e. Evaluate potential impacts from the proposed rail construction and operation on the aquatic habitat environment and fish, including the potential effects of stream-crossing structures (i.e., culverts and bridges) on fish passage.

f. Evaluate impacts of contaminants and hazardous materials (e.g., from possible oil spills) on the aquatic/terrestrial environments and aquatic/terrestrial wildlife for each of the alternatives, as appropriate.

g. Propose mitigation measures to avoid, minimize, or compensate for potential impacts on biological resources, as appropriate.

6. Water Resources

If construction and operation of the proposed rail line would adversely or beneficially affect water resources, the EIS will:

a. Describe the existing surface water and groundwater resources within the project area, including lakes, rivers, streams, stock ponds, wetlands, springs, and aquifers, and analyze the potential impacts on these resources resulting from the construction and operation of each alternative.

b. Describe existing floodplains in the project area and evaluate potential floodplain and flood flow impacts from construction and operation of each alternative.

c. Describe existing wetlands in the project area and evaluate potential impacts from construction and operation of each alternative, including permanent wetland fill, wetland alterations (e.g., wetland vegetation clearing), and altered wetland functions.

d. Consider the potential impacts on groundwater and surface water quality, including 303(d) listed impaired surface waters, from rail construction and operation of each alternative.

e. Evaluate the potential impacts on water quantity from construction and operation of the proposed rail line, including use of surface water and groundwater, reductions in groundwater recharge, and impacts on irrigation systems, springs, and water rights.

f. Evaluate potential alterations of stream morphology and surface water and groundwater movement and flow from the presence of culverts, bridges, and rail embankments for each alternative.

g. Describe the permitting requirements for the various alternatives regarding wetlands, stream and river crossings, water quality, floodplains, and erosion control.

h. Propose mitigation measures to avoid, minimize, or compensate for potential project impacts on water resources, as appropriate.

7. Geology, Soils, and Paleontological Resources

If construction and operation of the proposed rail line would adversely or beneficially affect geology, soils, and paleontological resources, the EIS will:

a. Describe the geology, soils, and seismic conditions found in the project area, including landslide risk, soil erodibility, and seismic risk and analyze the potential impacts on these resources resulting from each alternative.

b. Evaluate potential impacts on the geologic and soil conditions (i.e., stability) and potential for landslides during construction and operation of each alternatives.

c. Evaluate soil erosion, subsidence, and compaction impacts from construction and operation of each alternative.

d. Evaluate the potential for encountering flammable and explosive subsurface gases (e.g., methane) during construction and operations, particularly during tunnel construction and operations through tunnels.

e. Propose mitigation measures to minimize or eliminate potential project impacts on geology and soils, as appropriate.

f. Describe existing paleontological localities and geologic units in the study areas of each alternative.

g. Evaluate the likelihood of rail construction impacts on scientifically significant paleontological resources.

h. Analyze the potential impact on paleontological resources in each alternative route right-of-way by identifying geologic units and the density of paleontological resources present within or near each alternative route right-of-way and propose mitigation for paleontological resources, as appropriate.

8. Air Quality

If construction and operation of the proposed rail line would adversely or beneficially affect air quality, the EIS will:

a. Evaluate the air emissions and air quality impacts from the potential operation of trains and project-related changes in truck traffic on the proposed rail line, including potential greenhouse gas emissions, as appropriate.

b. Evaluate the potential emissions from the freighted product, as appropriate.

c. Evaluate the potential air quality impacts resulting from new rail line construction activities.

d. Propose mitigation measures to minimize or eliminate potential project impacts on air quality, as appropriate.

9. Noise and Vibration

If construction and operation of the proposed rail line would result in noise and vibration impacts, the EIS will:

a. Describe the potential noise and vibration impacts during new rail line construction resulting from each alternative.

b. Describe the potential noise and vibration impacts of new rail line operations resulting from each alternative.

c. Propose mitigation measures to minimize or eliminate potential project impacts on sensitive noise receptors, as appropriate.

10. Energy Resources

If construction and operation of the proposed rail line would adversely or beneficially affect energy resources, the EIS will:

a. Describe and evaluate the potential impact of the proposed rail line on the distribution of energy resources in the project area resulting from each alternative, including petroleum and gas pipelines and overhead electric transmission lines, as appropriate.

b. Propose mitigation measures to minimize or eliminate potential project impacts on energy resources, as appropriate.

11. Socioeconomics

If construction and operation of the proposed rail line would result in adverse or beneficial socioeconomic impacts, the EIS will:

a. Analyze direct economic impacts of construction resulting from increased demand for labor and construction expenditures.

b. Analyze potential indirect economic impacts, such as induced job creation and economic growth, impacts on state and county revenue generation, and economic impacts on ranchers.

c. Analyze the effects of a potential influx of construction workers on the project area and the potential increase in demand for local services interrelated with natural or physical environmental effects.

d. Analyze temporary and permanent socioeconomic impacts related to the disruption or division of communities.

e. Consider effects on nonmarket social values outside of defined communities, including impacts on opportunities for quiet recreation and a diminished sense of place, and impacts on other noneconomic social values.

f. Propose mitigation measures to minimize or eliminate potential project-related adverse impacts on social and economic resources, as appropriate.

12. Cultural and Historic Resources

If construction and operation of the proposed rail line would adversely or beneficially affect cultural and historic resources, the EIS will:

a. Identify historic buildings, structures, sites, objects, or districts eligible for listing in or listed in the National Register of Historic Places (National Register) within the Area of Potential Effects (APE) for each alternative and analyze potential project impacts on them.

b. Identify properties of traditional religious and cultural importance to Indian tribes (Traditional Cultural Properties) and prehistoric or historic archaeological sites evaluated as potentially eligible, eligible, or listed in the National Register within the APE for each alternative and analyze potential project impacts on them.

c. Propose measures to avoid, minimize, or mitigate potentially adverse project impacts on Traditional Cultural Properties, built-environment historic properties, archaeological historic properties, and cultural and historic resources, as appropriate.

13. Aesthetics and Visual Resources

If construction and operation of the proposed rail line would have adverse or beneficial aesthetic impacts, the EIS will:

a. Describe the potential impacts of the proposed rail line on any areas identified or determined to be of high visual quality.

b. Establish candidate key observation points (KOPs) using the viewshed analysis and sensitive viewing points that would have views of the alternatives, document prominent visual features (i.e., landforms, vegetation, rivers) associated with each candidate KOP and that may be affected by the alternatives, and record global positioning system (GPS) coordinates of the documentation photographs. Candidate KOPs will be evaluated against available design plans, factoring agency concerns and sensitive visual receptors, to determine which of the candidate KOPs should be selected for simulating.

c. Evaluate simulations by employing the BLM contrast rating system.

d. Evaluate changes to the existing visual character and quality of views, scenic vistas and scenic byways, and light and glare.

e. Analyze visual impacts associated with the proposed rail line and conformance with Forest Service and BLM visual resource classifications. Assess potential impacts on visual resources on federal lands by referencing the applicable rating systems, for example Forest Service Visual Quality Objectives (VQO) and BLM VRM system.

f. Describe the potential impacts of the proposed rail line on any waterways considered for or designated as wild and scenic.

g. Propose mitigation measures to minimize or eliminate potential project impacts on aesthetics and visual resources, as appropriate.

14. Environmental Justice

If construction and operation of the proposed rail line would adversely or beneficially affect low-income or minority populations, the EIS will:

a. Evaluate the potential impacts resulting from each alternative on minority and low-income populations.

b. Determine if those effects are borne disproportionately by low-income or minority populations.

c. Propose mitigation measures to minimize or eliminate potential disproportionate project impacts on low-income or minority populations, as appropriate.

15. Cumulative Impacts

a. Identify and evaluate the cumulative impacts of the relevant past, present, and reasonably foreseeable future actions that make up the cumulative condition for each resource.

b. Determine the incremental contribution of the proposed rail line to the cumulative impacts for each resource. The cumulative impacts discussion will only include direct or indirect impacts found to result from one or more alternatives.

c. Identify reasonable, feasible options for avoiding or mitigating the alternatives' considerable contribution to cumulative impacts.

By the Board, Victoria Rutson, Director, Office of Environmental Analysis.
Jeffrey Herzig,
Clearance Clerk.

[FR Doc. 2019-26878 Filed 12-12-19; 8:45 am]

BILLING CODE 4915-01-P